DEPARTMENT OF LABOR

Employment and Training Administration

Amended Certification Regarding Eligibility To Apply for Worker Adjustment Assistance

TA-W-90,281, VERSO CORPORATION, WICKLIFFE MILL, INCLUDING ON-SITE LEASED WORKERS FROM SELECT STAFFING, U.S. SECURITY ASSOCIATES AND ABBCO JANITORIAL WICKLIFFE, KENTUCKY

TA-W-90,281A, VERSO CORPORATION, BEAVER DAM WOODYARD, BEAVER DAM, KENTUCKY

TA-W-90,281B, VERSO CORPORATION, EDDYVILLE WOODYARD, EDDYVILLE, KENTUCKY

TA-W-90,281C, VERSO CORPORATION, WALDSCHMIDT WOODYARD, WICKLIFFE, KENTUCKY

TA-W-90,281D, VERSO CORPORATION, BETHEL SPRINGS WOODYARD, BETHEL SPRINGS, TENNESSEE

TA-W-90,281E, VERSO CORPORATION, BIG SANDY WOODYARD, CAMDEN, TENNESSEE

TA-W-90,281F, VERSO CORPORATION, DOVER WOODYARD, DOVER, TENNESSEE

In accordance with Section 223 of the Trade Act of 1974, as amended (“Act”), 19 U.S.C. 2273, the Department of Labor issued a Certification of Eligibility to Apply for Worker Adjustment Assistance on November 20, 2015, applicable to workers of Verso Corporation, Wickliffe Mill, including on-site leased workers from Select Staffing, U.S. Security Associates and Abbco Janitorial, Wickliffe, Kentucky. The Department's notice of determination was published in the Federal Register on January 11, 2016 (81 FR 1227).

At the request of a state workforce office and a company official, the Department reviewed the certification for workers of the subject firm. The workers are engaged in activities related to the production of coated and uncoated freesheet paper for catalogs, magazines, retail inserts, direct mail and general commercial printing applications and market pulp.

New information shows that worker separations have occurred at Verso Corporation, Wickliffe Mill, including on-site leased workers from Select Staffing, U.S. Security Associates and Abbco Janitorial, Wickliffe, Kentucky (TA-W-90,281), Verso Corporation, Beaver Dam Woodyard, Beaver Dam, Kentucky (TA-W-90,281A), Verso Corporation, Eddyville Woodyard, Eddyville, Kentucky (TA-W-90,281B), Verso Corporation, Waldschmidt Woodyard, Wickliffe, Kentucky (TA-W-90,281C), Verso Corporation, Bethel Springs Woodyard, Bethel Springs, Tennessee (TA-W-90,281D), Verso Corporation, Big Sandy Woodyard, Camden, Tennessee (TA-W-90,281E), Verso Corporation, Dover Woodyard, Dover, Tennessee (TA-W-90,281F). The employees support and work in conjunction with Verso Corporation, Wickliffe Mill, including on-site leased workers from Select Staffing, U.S. Security Associates and Abbco Janitorial, Wickliffe, Kentucky (TA-W-90,281) in woodyards which served to procure wood from the source, contracted with timber harvesters, and served as the collection site of the wood for short term storage until it was transported to the mill.

The intent of the Department's certification is to include all workers of the subject firm who were adversely affected by customer imports of coated and uncoated freesheet paper for catalogs, magazines, retail inserts, direct mail and general commercial printing applications and market pulp.

Based on these findings, the Department is amending this certification to include employees of Verso Corporation, Wickliffe Mill, including on-site leased workers from Select Staffing, U.S. Security Associates and Abbco Janitorial, Wickliffe, Kentucky (TA-W-90,281), Verso Corporation, Beaver Dam Woodyard, Beaver Dam, Kentucky (TA-W-90,281A), Verso Corporation, Eddyville Woodyard, Eddyville, Kentucky (TA-W-90,281B), Verso Corporation, Waldschmidt Woodyard, Wickliffe, Kentucky (TA-W-90,281C), Verso Corporation, Bethel Springs Woodyard, Bethel Springs, Tennessee (TA-W-90,281D), Verso Corporation, Big Sandy Woodyard, Camden, Tennessee (TA-W-90,281E), Verso Corporation, Dover Woodyard, Dover, Tennessee (TA-W-90,281F).

The amended notice applicable to TA-W-90,281 is hereby issued as follows:

All workers of Verso Corporation, Wickliffe Mill, including on-site leased workers from Select Staffing, U.S. Security Associates and Abbco Janitorial, Wickliffe, Kentucky (TA-W-90,281), Verso Corporation, Beaver Dam Woodyard, Beaver Dam, Kentucky (TA-W-90,281A), Verso Corporation, Eddyville Woodyard, Eddyville, Kentucky (TA-W-90,281B), Verso Corporation, Waldschmidt Woodyard, Wickliffe, Kentucky (TA-W-90,281C), Verso Corporation, Bethel Springs Woodyard, Bethel Springs, Tennessee (TA-W-90,281D), Verso Corporation, Big Sandy Woodyard, Camden, Tennessee (TA-W-90,281E), Verso Corporation, Dover Woodyard, Dover, Tennessee (TA-W-90,281F), who became totally or partially separated from employment on or after January 1, 2014 through November 20, 2017, and all workers in the group threatened with total or partial separation from employment on date of certification through two years from the date of certification, are eligible to apply for adjustment assistance under Chapter 2 of Title II of the Trade Act of 1974, as amended.

Signed in Washington, DC, this 4th day of August, 2016.
Jessica R. Webster,
Certifying Officer, Office of Trade Adjustment Assistance.

[FR Doc. 2016-23032 Filed 9-23-16; 8:45 am]

BILLING CODE P